DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services (DHHS) is amended to reflect new functional statements for the Office of the Assistant Secretary for Mental Health and Substance Use and the Center for Behavioral Health Statistics and Quality. In addition this notice establishes the new National Mental Health and Substance Use Policy Laboratory (NMHSUPL). This reorganization is to ensure compliance with the requirements set forth in the 21st Century Cures Act, and to better align the agency in maximizing the talent and resources available to improve the efficiency of SAMHSA programs.

Section M.20, Functions is amended as follows:

Establishing the Office of the Assistant Secretary for Mental Health and Substance Use (OAS) and abolishing the Immediate Office of the Administrator. Realigning the President's Emergency Plan for AIDS Relief Activities Branch from the Center for Substance Abuse Treatment to the OAS. Realigning the Office of Tribal Affairs and Policy, the Office of Indian Alcohol and Substance Abuse, the Office of the Chief Medical Officer, and the Executive Correspondence Branch, from the Office of Policy, Planning, and Innovation (OPPI) to the OAS. Renaming the Office of Behavioral Health Equity to the Office of Behavioral Health Equity and Justice-Involved and renaming the Division of Regional and National Policy Liaison to the Office of Intergovernmental and External Affairs and realigning both from OPPI to the OAS. Establishing the National Mental Health and Substance Use Policy Laboratory and transferring to it the functions of OPPI. Abolishing the Division of Policy Coordination and the Division of Policy Innovation and Policy Analysis Branch from OPPI. Codifying the existing Center for Behavioral Health Statistics and Quality (CBHSQ) and renaming CBHSQ's Division of Evaluation, Analysis, and Quality to the Office of Evaluation. The Office of Communication remains an integral part of the OAS and was not impacted by this reorganization. The functional statement for each office is changed to read as follows:

Office of the Assistant Secretary (MA)

The Office of the Assistant Secretary (OAS): (1) Maintains a system to disseminate research findings and evidence-based practices to service providers to improve treatment and prevention services and incorporate these findings into SAMHSA programs; (2) ensures that grants are subject to performance and outcome evaluations and that center directors consistently document the grant process and conduct ongoing oversight of grantees; (3) consults with stakeholders to improve community-based and other mental health services, including adults with a serious mental illness (SMI), and children with a serious emotional disturbance (SED); (4) collaborates with other federal departments, including the Departments of Defense (DOD), Veterans Affairs (VA), Housing and Urban Development (HUD), and Labor (DOL) to improve care for veterans and service members, and support programs to address chronic homelessness; and (5) works with stakeholders to improve the recruitment and retention of mental health and substance use disorder professionals. In addition, the OAS provides leadership in the development of agency policies and programs, and maintains a close working relationship and coordination with Congress, other operating and staff divisions within the Department of Health and Human Services, and external Federal and private sector entities.

The OAS consists of the Office of Communications, Office of Intergovernmental and External Affairs, the Office of Behavioral Health Equity and Justice-Involved, the Office of Tribal Affairs and Policy/Office of Indian Alcohol and Substance Abuse, and the Office of the Chief Medical Officer.

Office of Communications (MAB)

Provides leadership in the development of SAMHSA's priorities, strategies, and practices for effective communications to targeted public audiences, including relations with the media; and serves as a focal point for communications activities as follows: (1) Coordinates agency communications activities; (2) plans public events, including press conferences, speeches, and site visits for the Administrator, other SAMHSA officials, and DHHS representatives; (3) publishes SAMHSA brochures, fact sheets, and quarterly issues of SAMHSA News; (4) coordinates electronic dissemination of information, within the Agency and through the internet and World-Wide Web; (5) develops communications channels and targets media placements; (6) develops and disseminates news releases and coordinates media contacts with Agency representatives; (7) provides editorial and policy review of all Agency publications; (8) fulfills public affairs requirements of DHHS; (9) provides Agency contributions to the DHHS forecast report on significant activities; and (10) manages the Agency conference exhibit program.

Office of Intergovernmental and External Affairs (MAC)

The Office of Intergovernmental and External Affairs (OIEA) serves as the central point for providing leadership and coordination in establishing and maintaining a collaborative effort between SAMHSA, other government agencies, and service providers in order to improve behavioral health outcomes. The Office is SAMHSA's lead for institutional and intergovernmental communication and coordination. As such, the Office: (1) Ensures that critical information from the field is incorporated into all policy activities and shared broadly across SAMHSA to support program development and implementation; (2) establishes and sustains relationships between SAMHSA and key stakeholders in other government agencies and institutions; (3) ensures that SAMHSA's policies are effectively communicated to Regional and National stakeholders; and, (4) meets routinely with staff from Centers and Offices to discuss program policy issues, seek input, and review progress.

Office of Behavioral Health Equity and Justice-Involved (MACA)

The Office of Behavioral Health Equity and the Justice-Involved (OBHEJI) coordinates agency efforts to ensure that racial and ethnic minority, underserved, and criminal justice-involved populations have equitable access to high quality behavioral health care. Functions of the office include: (1) Strengthening SAMHSA's capacity, through its grant programs and technical assistance efforts, to address the behavioral health needs of minority, underserved and justice involved populations; (2) enhancing measurement and data strategies to identify, assess and respond to the behavioral health challenges for these populations; (3) promoting policy initiatives that strengthen SAMHSA's programs and the broader field in improving the behavioral health of the underserved and the justice-involved; and, (4) expanding the behavioral health workforce capacity to improve outreach, engagement and quality of care.

Office of Tribal Affairs and Policy/Office of Indian Alcohol and Substance Abuse (MACB)

The Office of Tribal Affairs and Policy (OTAP)/Office of Indian Alcohol and Substance Abuse (OIASA) coordinates federal partners and provides tribes with technical assistance and resources to develop and enhance prevention and treatment programs for substance use disorders, including the misuse of alcohol. The Office serves as the agency's primary point of contact for tribal governments, tribal organizations, and federal agencies on behavioral health issues that impact tribal communities.

OTAP/OIASA is charged with aligning, leveraging, and coordinating federal agencies and departments in carrying out SAMHSA's responsibilities delineated in the Tribal Law and Order Act (TLOA). This effort is overseen through the Indian Alcohol and Substance Abuse (IASA) Interdepartmental Coordinating Committee, which is comprised of more than 60 members representing a range of federal agencies and departments.

PEPFAR Activities Branch (MACC)

The President's Emergency Plan for AIDS Relief (PEPFAR) Activities Branch: (1) Provides leadership and direction to activities, under the PEPFAR mission, that impact the global HIV epidemic through the delivery of substance abuse treatment as part of HIV/AIDS prevention, care, and treatment; (2) serves as the point of contact (POC) for all SAMHSA PEPFAR operational activities and provides leadership and direction to technical, budget and programmatic aspects of the SAMHSA PEPFAR program; (3) works in collaboration with other agency's staff to guide policy development and innovation related to HIV and hepatitis within the context of a broader international agenda, including work with other SAMHSA Centers to identify additional behavioral health evidence based practices and initiatives that are relevant to SAMHSA's role in PEPFAR; (4) serves as the POC for both the Office of Global Affairs in HHS and the Office of the Global AIDS Coordinator and Health Diplomacy (S/GAC) in the State Department on all SAMHSA PEPFAR related activities and coordinates all matters of PEPFAR policy; and (5) oversees and coordinates responsibilities for PEPFAR within SAMHSA, including (a) SAMHSA PEPFAR operational activities to include budget, programmatic activities, as well as, new initiatives and activities developed at the Office of the Global AIDS Coordinator and Health Diplomacy (S/GAC); (b) SAMHSA PEPFAR data activities and reporting to the Interagency Collaborative for Program Improvement (ICPI); (c) SAMHSA related PEPFAR Technical Working Group (TWG) activities and assignments; (d) SAMHSA headquarters technical assistance (TDYs) on substance abuse treatment and HIV prevention, care and treatment; and (e) SAMHSA participation in PEPFAR country reviews and new and evolving PEPFAR activities, including policy development.

Executive Correspondence and Support Branch (MACD)

The Executive Correspondence and Support Branch: (1) Receives, analyzes, assigns, distributes and tracks executive correspondence and maintains files; (2) ensuring responsiveness, quality and timeliness of executive correspondence; (3) issues guidance and establishes administrative processes to ensure that executive correspondence complies with all DHHS requirements and reflects positively on the reputation of SAMHSA; and, (4) responds to Freedom of Information Act requests.

Office of the Chief Medical Officer (MAD)

The Office of the Chief Medical Officer (OCMO) provides assistance to the Assistant Secretary in evaluating and organizing programs within the Agency, and to promote evidence-based and promising best practices emphasizing clinical focus. The OCMO has in-depth experience providing mental health care or substance use disorder treatment services. Furthermore, the OCMO coordinates with the Assistant Secretary for Planning and Evaluation (ASPE) to assess the use of performance metrics to evaluate SAMHSA programs, and to coordinate with the Assistant Secretary to ensure consistent utilization of appropriate performance metrics and evaluation designs.

National Mental Health and Substance Use Policy Laboratory (MD)

The National Mental Health Substance Use and Policy Laboratory (NMHSUPL) promotes evidence-based practices and service delivery models through evaluating models that would benefit from further development and through expanding, replicating, or scaling evidence-based programs across a wider area. The NMHSUPL: (1) Identifies, coordinates, and facilitates the implementation of policy changes likely to have a significant effect on mental health, mental illness (especially severe mental illnesses such as schizophrenia and schizoaffective disorders), recovery supports, and the prevention and treatment of substance use disorder services; (2) works with the Center for Behavioral Health Statistics and Quality (CBHSQ) to collect information from grantees under programs operated by the Administration in order to evaluate and disseminate information on evidence-based practices, including culturally and linguistically appropriate services, as appropriate, and service delivery models; and (3) carry out other activities as deemed necessary to continue to encourage innovation and disseminate evidence-based programs and practices.

Center for Behavioral Health Statistics and Quality (MC)

The Center for Behavioral Health Statistics and Quality: (1) Coordinates the Assistant Secretary for Mental Health and Substance Use's integrated data strategy, which includes collecting data each year on the national incidence and prevalence of the various forms of mental illness and substance abuse; (2) provides statistical and analytical support for activities of the Assistant Secretary for Mental Health and Substance Use, and the Secretary of DHHS; (3) recommends a core set of performance metrics to evaluate activities supported by the Administration; (4) coordinates with the Assistant Secretary for Mental Health and Substance Use, the Assistant Secretary for Planning and Evaluation, and the Substance Abuse and Mental Health Services Administration (SAMHSA) Chief Medical Officer, as appropriate, to improve the quality of services provided by programs and the evaluation of activities carried out by the Administration; (5) works with the National Mental Health and Substance Use Policy Laboratory to collect, as appropriate, information from grantees under programs in order to evaluate and disseminate information on evidence-based practices, including culturally and linguistically appropriate services, as appropriate, and service delivery models; (6) improves access to reliable and valid information on evidence-based programs and practices, including information on the strength of evidence associated with such programs and practices, related to mental and substance use disorders; (7) compiles, analyzes, and disseminates behavioral health information for statistical purposes.

Office of the Director (MC1)

The Office of the Director: (1) Plans, directs, administers, coordinates, and evaluates the integrated data strategy of the Center; (2) ensures that data collection, analytic activities, dissemination activities, and evaluation efforts are consistent with the mission and priorities of the Department and the Agency; (3) directs the Center's health systems statistical programs and evaluations; (4) provides management and administration for the Center; (5) serves as Agency primary liaison to the Office of the Secretary, the Office of National Drug Control Policy, and other Federal agencies; to State and local government agencies; and to non-governmental organizations and institutions on matters related to the collection and analysis of data on substance use and mental health issues; and (6) oversees the process for internal clearance, publishing, and dissemination of statistical studies, reports, and evaluations produced by CBHSQ.

Office of Program Analysis and Coordination (MCA)

The Office of Program Analysis and Coordination supports the Center's implementation of programs and policies by providing guidance in the administration, analysis, planning, and coordination of the Center's programs, consistent with agency priorities. Specifically the Office: (1) Manages the Center's participation in the agency's policy, planning, budget formulation and execution, program development and clearance, and internal and external requests, including strategic planning, identification of program priorities, and other agency-wide and departmental planning activities; (2) Provides support for the Center Director, including coordination of staff development activities, analysis of the impact of proposed legislation and rule-making, and supporting administrative functions, including human resource-related actions; and (3) coordinates release of survey data information through electronic reports and web based media in conjunction with Office of Communication.

Division of Surveillance and Data Collection (MCB)

The Division is responsible for developing, conducting, and improving surveys carried out by CBHSQ according to statute. Specifically the Division: (1) Plans, develops, and manages the national surveys of the general population, treatment providers, and patients focused on behavioral health disorders, adverse consequences, and treatment utilization and availability; (2) consistent with the CBHSQ publications plan, makes CBHSQ data available to the general public, policymakers at the Federal, state, and local government levels, and researchers through annual reports for agency, peer- reviewed sources, publications, and customized data files (public and restricted-use) in accordance with confidentiality statutes and regulations and OMB guidance and with Federal partners, as appropriate; (3) carries out methodological studies to assess and improve data collection methods and data quality and determines the comparability of data from SAMHSA surveys with those of other surveys conducted on behavioral health disorders; (4) responds to data inquiries and provides technical assistance to SAMHSA, other Federal agencies, state, and local governments, private organizations, researchers, and the public on the findings and appropriate interpretation of the data from CBHSQ surveys, as well as surveys sponsored by other organizations; (6) serves as a source of expertise for SAMHSA and the Department on survey methods, sampling design, statistics, analytical techniques, and participates in interagency workgroups to promote information-sharing and collaboration on statistical issues across agencies; and (7) manages statistical and analytical support team that analyzes and disseminates CBHSQ data.

Population Surveys Branch (MCBA)

The Population Surveys Branch plans, develops, and manages the National Survey on Drug Use and Health (NSDUH). Specifically the Branch: (1) According to statute, provides annual national estimates, as well as periodic state, sub-state, and metropolitan area estimates on the incidence, prevalence, correlates, and consequences of illicit drug use, alcohol and tobacco use, and mental health disorders and related treatment in the general population; (2) keeps abreast of current advances in survey design techniques and emerging data needs and research findings, and updates the survey design and analysis plans to meet those needs; and develops and implements new questionnaires and sampling, data collection, estimation, and analysis methods reflecting these needs for surveys; (3) manages the NSDUH data collection by reviewing the data collection materials, observing data collection, observing field interviewer training, tracking response rates, and resolving data quality problems; (4) evaluates methods used in population surveys and their impact on data quality, including comparing CBHSQ data with other existing data to help guide interpretation and promote appropriate uses of data; (5) manages the survey contract to ensure the reliability and validity of the data and (6) maintains partnerships with other organizations collecting and analyzing data on behavioral health disorders in support of agency's mission.

Treatment Services Branch (MCBB)

The Treatment Services Branch plans, develops, and manages national surveys of mental health and substance use treatment service facilities and client level data collections related to the nation's behavioral health treatment systems according to statute. These data collections include the National Survey of Substance Abuse Treatment Services (N-SSATS), the National Mental Health Services Survey (N-MHSS), the Treatment Episode Data Set (TEDS), the Mental Health Client-Level Data (MH-CLD) system, the SAMHSA Emergency Department Surveillance System (SEDSS) and other studies of the behavioral health treatment system. Specifically the Branch: (1) Provides annual national census data, as well as State, and metropolitan area data on the number, location, services provided, operational characteristics, and utilization of mental health and substance use treatment facilities; and provides client-level data on the characteristics of persons admitted to behavioral health treatment and their status post-admission and at discharge; (2) according to statute, manages and directs the collection of survey data used to develop and maintain a web-based treatment service Locator for behavioral health disorders, and conducts periodic testing and analyses to improve the accessibility and utility of the Locator and collaborates with the SAMHSA Office of Communication, as appropriate, in usability studies; (3) manages the associated survey contracts to ensure the reliability and validity of the data; (4) maintains the quality and relevance of the data through partnership with state behavioral health agencies, and (5) coordinates partnership efforts with the Center for Disease Control, National Center for Health Statistics (NCHS) related to the collection of behavioral health emergency department data for SEDSS through the National Ambulatory Medical Care Survey (NHCS).

Office of Evaluation (MCC)

The Office of Evaluation is responsible for providing centralized planning and management of program evaluation across SAMHSA in partnership with program originating Centers, providing oversight and management of agency quality improvement and performance management activities and for advancing agency goals and objectives related to program evaluation, performance measurement, and quality improvement. Specifically, the Office: (1) Develops evaluation language for Request for Proposals (RFPs), Request for Applications (RFAs), and other funding announcements to ensure a clear statement of evaluation expectations in the announcements; (2) develops and implements standard measures for evaluating program performance and improvement of services; (3) manages the design of SAMHSA program evaluations in collaboration with the relevant Center(s); (4) monitors evaluation contracts to ensure implementation of planned evaluation and provides early feedback regarding program start-up for use in agency decision-making; (5) works collaboratively with the National Mental Health and Substance Use Policy Laboratory to provide support for SAMHSA evaluations; (6) oversees the identification of a set of performance indicators to monitor each SAMHSA program in collaboration with program staff and the development of periodic evaluation reports for use in agency planning, program change, and reporting to departmental and external organizations; (7) provides collaboration, guidance, and systematic feedback on SAMHSA's programmatic investments to support the agency's policy and program decisions; (8) analyzes and disseminates evaluation related data and reports in support of Secretarial and Assistant Secretarial initiatives and develops evaluation and performance related reports in response to internal and external requests; (9) provides oversight of the agency's quality improvement efforts, including the collection, analysis, and reporting of performance measurement and quality monitoring and improvement data; (10) provides oversight and management of SAMHSA's Performance Accountability and Reporting System (SPARS) which serves as a mechanism for the collection of performance data from agency grantees; (11) responds to agency and departmental requests for performance measurement data and information; and conducts a range of analytic and support activities to promote the use of performance data and information in the monitoring and management of agency programs and initiatives; and (12) maintains the posting, on the internet, of information on evidence-based programs and practices that have been reviewed by the Assistant Secretary for Mental Health and Substance Use.

Delegation of Authority

All delegations and re-delegations of authority made to SAMHSA officials that were in effect immediately prior to this reorganization, and that are consistent with this reorganization, shall continue in effect pending further re-delegation.

Dated: June 25, 2018.
Alex M. Azar II,
Secretary.

[FR Doc. 2018-14165 Filed 6-29-18; 8:45 am]

BILLING CODE 4160-01-P